DEPARTMENT OF COMMERCE

Office of the Secretary

[Docket No. 020430099-2099-01]

RIN 0690-XX07

Guidelines for Ensuring and Maximizing the Quality, Objectivity, Utility, and Integrity of Disseminated Information

AGENCY: Department of Commerce.

ACTION: Notice; request for comment.

SUMMARY: Section 515 of Public Law 106-554, the Treasury and General Government Appropriations Act for Fiscal Year 2001, directs the Office of Management and Budget (OMB) to issue government-wide guidelines that “provide policy and procedural guidance to Federal agencies for ensuring and maximizing the quality, objectivity, utility, and integrity of information (including statistical information) disseminated by Federal agencies.” In addition, section 515 requires that agencies subject to the OMB guidelines must establish “administrative mechanisms allowing affected persons to seek and obtain correction of information that does not comply with [the OMB guidelines].” The OMB final guidelines were published in the Federal Register on February 22, 2002. Those guidelines direct that, by May 1, 2002, agencies publish for public comment their draft guidelines. As such, the Department of Commerce is requesting public comment on the following guidelines, information quality standards, and administrative correction mechanism. The draft guidelines contained in this document provide policy direction to the various operating units of the Department in issuing information quality standards applicable to information they disseminate. Further, this document includes draft Department-wide information quality standards to address information utility and integrity, as well as an information quality standard for information that is other than scientific, financial, or statistical.

DATES: Comments are due by close of business June 3, 2002.

ADDRESSES: Comments should be sent to Thomas N. Pyke, Jr., Chief Information Officer, Department of Commerce, 14th St. and Constitution Ave. NW, Room 5029B, Washington, DC 20230. Send e-mail to informationquality@doc.gov. Department of Commerce operating units will publish their information quality standards on the Web sites listed in the SUPPLEMENTARY INFORMATION section of this document. Comments on the operating unit standards should be addressed directly to the contact noted in the operating unit standards.

FOR FURTHER INFORMATION CONTACT: Diana H. Hynek, Office of the Chief Information Officer, Department of Commerce, 14th St. and Constitution Ave. NW, Room 6625, Washington, DC 20230. Telephone (202) 482-0266 or by e-mail to dhynek@doc.gov.

SUPPLEMENTARY INFORMATION:

Background

The U.S. Department of Commerce (“Commerce” or “Department”) is one of the most diverse Federal departments, both in terms of its mission and the information it provides to the public. We are responsible for daily weather reporting, facilitating the use of technology both at home and in the workplace, collecting statistics that assist the public and private sector, and supporting the environmental and economic health of U.S. communities. Our mission is to promote job creation and improve living standards for all Americans by creating an infrastructure that encourages economic growth, technological competitiveness, and sustainable development, conservation, and wise use of living marine resources.

To carry out this mission, three strategic goals have been identified. They are to provide the information and the framework to enable the economy to operate efficiently and equitably; provide the infrastructure for innovation to enhance U.S. competitiveness; and observe and manage the Earth's environment to promote sustainable growth.

Commerce provides the basic economic data necessary to develop sound business decisions, producing many of the commonly used economic statistics issued by the U.S. Government. The Department also produces information designed to encourage the use of science and technology in the production of consumer goods and services.

Commerce plays an important role in the nation's global business development. The Department develops and disseminates foreign market research and international trade opportunities through its offices in the United States and in 83 foreign countries. Commerce also monitors and enforces compliance with U.S. trade laws and agreements, and defends American firms from injurious foreign business practices by administering U.S. antidumping and countervailing duty laws.

The oceanic and atmospheric programs at Commerce improve the understanding and rational use of the natural environment to further the Nation's safety, welfare, security, and commerce. These responsibilities include predicting the weather, charting the seas, and protecting the oceans and coastal areas.

Domestically, Commerce's programs promote long-term business enterprises that create jobs for minority groups and in underdeveloped areas across the United States. These programs are supported by reports, publications, projections, and business expertise. The Department provides services to citizens, and private business as well as to state, local and tribal governments.

Commerce Commitment to Information Quality

Given the broad responsibilities of the Commerce Department in scientific, technical, and statistical information, Commerce welcomes the opportunity provided by the issuance of the Office of Management and Budget information quality guidelines to demonstrate our thorough and professional approach to information release at the Commerce Department.

Our goal is to ensure and maximize the quality of the information we release to the public. We are committed to making the methods, models, and processes that produce our information transparent and rigorous. At the Commerce Department, we have a long tradition of producing relevant, credible, high quality information to the public at large, the academic community, and the private sector.

We believe that we uphold a high standard regarding information quality through the use of quality control procedures for statistical data collection and processing. The 2000 decennial census, conducted by the Census Bureau, was the most accurate census in the history of the Nation. Commerce has made significant strides in redesigning the national income and product accounts by improving the conceptual foundation and incorporating new estimating methods and other statistical improvements. Our scientific research incorporates both internal and external peer review as appropriate. The Department boasts two Nobel Prize winners in science. We operate supercomputers that rank in the Nation's top ten in processing power. These powerful computers allow us a high degree of model resolution that increases the number of data points used to improve the accuracy of weather forecasts.

In summary, we are proposing these draft Commerce guidelines as a continuation of our commitment to information quality. We have a proven track record in producing high quality information and welcome the opportunity for the public to comment on our information quality guidelines.

Guidelines for Ensuring and Maximizing the Quality, Objectivity, Utility, and Integrity of Information Disseminated by the Department of Commerce and its Operating Units

I. Department of Commerce Responsibilities

The Department of Commerce Chief Information Officer (CIO) will prepare and submit reports annually to the Director of the Office of Management and Budget (OMB) regarding the number and nature of complaints received by the Department of Commerce regarding Department compliance with the OMB guidelines concerning the quality, objectivity, utility, and integrity of information and how such complaints were resolved, as required by Section 515 of the Treasury and General Government Appropriations Act for FY 2001 (Public Law 106-554) and the OMB Guidelines.

II. Operating Unit Responsibilities

1. By October 1, 2002, document and make available to the public information quality standards that address the requirements of quality, objectivity, utility, and integrity for all non-exempt information disseminated by the operating unit.

2. By October 1, 2002, establish administrative mechanisms allowing affected persons to seek and obtain correction of information maintained and disseminated by the operating unit on or after October 1, 2002, that does not comply with these Department guidelines and the OMB guidelines.

3. Assist the Department CIO in the preparation of annual reports to OMB by providing information requested by the Department CIO.

III. Information Quality Standards

By October 1, 2002, each operating unit must document and make available to the public information quality standards that meet the requirements of quality, objectivity, utility, and integrity, as defined in these guidelines, for all non-exempt information disseminated by that operating unit. (The operating units of the Department are organizational entities outside the Office of the Secretary charged with carrying out specified substantive functions (i.e. programs) of the Department. For purposes of this document, operating unit responsibilities will apply to the Office of the Secretary also.) Each operating unit will post on its Web site the categories of information disseminated by the operating unit, the quality standard for each category, and an administrative correction mechanism for public comment by May 31, 2002. Web addresses are listed in the final section of this announcement. Note: The draft standards for the Census Bureau and for other than scientific, financial, and statistical information in the Office of the Secretary are available now.

Department-Level Guidance to Commerce Operating Units

The guidelines below provide direction to the operating units of the Department in issuing information quality standards applicable to information they disseminate. This document includes Department-wide model information quality standards to address information utility and integrity, as well as a model information quality standard for information other than scientific, financial, or statistical information. The latter standard includes the model utility and integrity standards for completeness. Finally, this document contains a model administrative correction process for information disseminated by operating units of the Department.

As noted below, each operating unit may adopt or adapt the suggested model standards and adapt the suggested model administrative mechanism, as needed. An operating unit may also choose to adapt the model standards by integrating them with other standards. Where no model standard is provided, each operating unit must prepare standards to comply fully with Section 515 of the Treasury and General Government Appropriations Act for FY 2001 (Public Law 106-554) and the OMB Guidelines. In particular, each operating must address the objectivity of scientific, financial, and statistical information it disseminates.

Note on Terminology: In these Guidelines, the terms “quality,” “utility,” “objectivity,” “integrity,” “information,” “government information,” “information dissemination product,” “dissemination,” “influential,” and “reproducibility” are used with the meanings given by the definitions in the OMB final Guidelines as published in the Federal Register, Vol. 67, No.36, February 22, 2002. Where a different or modified definition of any of these terms is applicable in a specific context, or associated with a specific information category, that definition will be provided in the context to which it applies.

I. Use of Disclaimers for Released Information

Each operating unit may adopt or adapt this policy.

Scope

This policy covers release of information by the Department of Commerce on or after October 1, 2002.

Policy

Any information released by the Department that does not represent the views of the Department (or any of its components) shall contain a disclaimer indicating that it does not represent the views of the Department.

II. Model Quality Standard for Utility of Information Disseminated to the Public

Each operating unit may adopt or adapt this standard.

Scope

This standard covers all information disseminated by the Department of Commerce on or after October 1, 2002.

Standard

Information disseminated to the public shall be useful to its intended users. “Useful” means that the content of the information is helpful, beneficial, or serviceable to its intended users, or that the information supports the usefulness of other disseminated information by making it more accessible or easier to read, see, understand, obtain, or use. Where the usefulness of information will be enhanced by greater transparency, care shall be taken that sufficient background and detail is available, either with the disseminated information or through other means, to maximize the usefulness of the information. The level of such background and detail shall be commensurate with the importance of the particular information, balanced against the resources required, and be appropriate to the nature and timeliness of the information to be disseminated.

III. Model Quality Standard for Integrity of Information Disseminated to the Public

Each operating unit may adopt or adapt this standard.

Scope

This standard covers all information disseminated by the Department of Commerce on or after October 1, 2002.

Standard

Information disseminated by the Department of Commerce to the public, independent of the specific distribution mechanism, shall be safeguarded from improper access, modification, or destruction. The Department will ensure that disseminated information, including original and supporting information, is protected commensurate with the risk and magnitude of harm that could result from the loss, misuse, or unauthorized access to or modification of such information.

All electronic information disseminated to the public by the Department of Commerce adheres to the standards set out in Appendix III, “Security of Federal Automated Information Resources,” OMB Circular A-130; the Computer Security Act; and the Government Information Systems Reform Act.

Confidentiality of data collected by the Department is safeguarded under legislation including the Privacy Act and Titles 13, 15, and 22 of the U.S. Code. For its formal statistical data releases to the public, the Commerce Department maintains strict procedures to protect premature disclosure of the data before the publicly scheduled date and time of the release.

IV. Model Quality Standard for Non-Scientific, Non-Financial, Non-Statistical Information Disseminated to the Public

Each operating unit may adopt or adapt this standard.

Scope

This standard covers all non-scientific, non-financial, non-statistical information disseminated by the Department of Commerce on or after October 1, 2002.

Utility

Information disseminated to the public shall be useful to its intended users. “Useful” means that the content of the information is helpful, beneficial, or serviceable to its intended users, or that the information supports the usefulness of other disseminated information by making it more accessible or easier to read, see, understand, obtain, or use. Where the usefulness of information will be enhanced by greater transparency, care shall be taken that sufficient background and detail is available, either with the disseminated information or through other means, to maximize the usefulness of the information. The level of such background and detail shall be commensurate with the importance of the particular information, balanced against the resources required, and be appropriate to the nature and timeliness of the information to be disseminated.

Integrity

Information disseminated by the Department of Commerce to the public, independent of the specific distribution mechanism, shall be safeguarded from improper access, modification, or destruction. The Department will ensure that disseminated information, including original and supporting information, is protected commensurate with the risk and magnitude of harm that could result from the loss, misuse, or unauthorized access to or modification of such information.

All electronic information disseminated to the public by the Department of Commerce adheres to the standards set out in Appendix III, “Security of Federal Automated Information Resources,” OMB Circular A-130; the Computer Security Act; and the Government Information Systems Reform Act.

Confidentiality of data collected by the Department is safeguarded under legislation including the Privacy Act and Titles 13, 15, and 22 of the U.S. Code. For its formal statistical data releases to the public, the Commerce Department maintains strict procedures to protect premature disclosure of the data before the publicly scheduled date and time of the release.

Objectivity

Information disseminated by the Department shall be presented in a clear, complete, and unbiased manner, and in a context which enhances usability to the intended audience. The sources of the disseminated information shall be identified to the extent possible, consistent with confidentiality, privacy, and security considerations and protections, and taking into account timely presentation, the medium of dissemination, and the importance of the information, balanced against the resources required and the time available.

Information disseminated by the Department shall be reliable and accurate to an acceptable degree of error as determined by factors such as the importance of the information, its intended use, time sensitivity, expected degree of permanence, relation to the primary mission(s) of the disseminating office, and the context of the dissemination, balanced against the resources required and the time available. A body of information is considered to be reliable if experience shows it to be generally accurate. Accurate information, in the case of non-scientific, non-financial, non-statistical information, means information which is reasonably determined to be factually correct in the view of the disseminating office as of the time of dissemination.

Pre-dissemination Review Process

The pre-dissemination review process shall enable the Department to substantiate the quality of disseminated information through documentation or other means appropriate to the nature and importance of the information, balanced against resources required and the time available.

Pre-dissemination review of information disseminated by the Department shall be incorporated into the normal review processes for each type of information to take advantage of inherent quality checks that are part of the process of formulating the information. This review shall be at a level appropriate to the information, taking into account the information's importance, balanced against the resources required and the time available. Department operating units shall treat information quality as integral to every step in their process of developing the information, including creation, collection, maintenance, and dissemination.

Pre-dissemination review can be accomplished in a number of ways, including but not limited to combinations of the following:

a. Active personal review of information by supervisory and management layers, either by reviewing each individual dissemination, or selected samples, or by any other reasonable method.

b. Use of quality check lists, charts, statistics, or other means of tracking quality.

c. Careful design and monitoring of review processes to ensure they are effective.

d. Peer monitoring during information preparation.

e. Use of management controls.

f. Review of comments from the public.

g. Any other method which serves to enhance the objectivity, utility, and integrity of the information.

Contact Information

Contact information shall be provided with the information disseminated.

V. Model Administrative Mechanism for Requesting Correction of Information Disseminated to the Public

(a) Requests to correct information. Any affected person may request, where appropriate, timely correction of disseminated information that does not comply with Office of Management and Budget (OMB) or Department guidelines. An affected person would submit a request for such action directly to a point of contact designated to receive such requests.

(b) Appeals of denials of requests. Any person receiving an initial denial of a request to correct information made under paragraph (a), may file an appeal of such denial, which must be received by the head of the operating unit within thirty calendar days of the date of the denial of the request. The appeal must include a copy of the original request, any correspondence regarding the initial denial, and a statement of the reasons why the initial denial was in error. No opportunity for personal appearance, oral argument, or hearing on appeal is provided.

(c) Savings clause. Operating units must adopt or adapt these procedures for providing affected persons with an opportunity to seek and obtain correction of disseminated information described in this guideline. However, operating units with an existing process for providing affected persons with an opportunity to seek and obtain correction of disseminated information may retain their existing process, provided such existing process has been published in the Federal Register, or otherwise been made publicly available.

(d) Definitions.

(1) Affected person means a person who meets each of the following three criteria:

(i) The person must have suffered an injury “ harm to an identifiable legally-protected interest;

(ii) There must be a causal connection between the injury and the disseminated information—the injury has to be fairly traceable to the disseminated information or decisions based on such information, and not the result of independent or unrelated action; and

(iii) It must be likely, as opposed to merely speculative, that the injury will be redressed by a favorable decision.

(2) Person means an individual, partnership, corporation, association, public or private organization, or State or local government; and

(3) Program office means a sub-organization of an operating unit responsible for carrying out specified substantive functions (i.e., programs) of that operating unit.

(e) Procedures for initial request for correction.

(1) Each operating unit of the Department will establish internal procedures that ensure that every dissemination of information will contain a point of contact for an affected person to request correction of such disseminated information that does not comply with OMB or Department guidelines. The point of contact may be a Department-wide internet Web site established for the purpose of receiving such requests for correction. Alternatively, the point of contact may be an office in the operating unit that disseminated the information, either the program office that actually disseminated the information, an office one organizational level above such office, or a central point of contact within the operating unit.

(2) An initial request for correction of disseminated information must be either posted to any Department-wide internet Web site established for such purpose or in writing and addressed to the point of contact. The point of contact will transmit the request to the office that will address the request (responsible office). Any Department employee receiving a misdirected request will take reasonable efforts to forward the request to the appropriate office, but the responsible office is not obligated to respond until it receives the request.

(3)(i) No initial request for correction will be considered under these procedures concerning:

(A) A matter not involving “information,” as that term is defined in OMB's guidelines;

(B) Information that has not actually been “disseminated,” as that term is defined in OMB's guidelines; or

(C) Disseminated information the correction of which would serve no useful purpose. For example, correction of disseminated information would serve no useful purpose with respect to information that is not valid, used or useful after a stated short period of time (such as a weather forecast). This limitation would not, however, preclude a request for correction alleging a systemic problem resulting in consistent errors in the dissemination of such information.

(ii) Such a request will be accounted for in the Department's report to OMB.

(4) At a minimum, initial requests must include:

(i) The requester's current home or business address, telephone number or electronic mail address (in order to ensure timely communication);

(ii) An accurate citation to or description of the particular information disseminated which is the subject of the request (including the date and information source from which the requester obtained the information); and

(iii) An explanation of:

(A) How the requester is an affected person;

(B) How the requester believes the office that disseminated the information failed to follow its applicable information quality standards; and

(C) Why the requester believes that the subject information is not correct.

(5) Upon receipt of an initial request, the requester will be notified of receipt as soon as administratively possible.

(6)(i) Each operating unit of the Department will establish internal procedures that ensure that, upon receipt of a request from an affected person meeting the requirements of paragraph (e)(4) (hereinafter called “a proper request”), an initial decision will be communicated to the requester, usually within 60 calendar days. Each operating unit may establish a time period for its initial decision depending on the type of information at issue.

(ii) No action will be taken regarding a request failing to meet the requirements of paragraph (e)(4), including a request made by a person unaffected by the dissemination of the information. The submitter of any such request will be notified of this disposition. Such a request will be accounted for in the Department's report to OMB.

(iii) A proper request made concerning information disseminated as part and during the pendency of the comment period on a proposed rule, including a request concerning the information forming the record of decision for a proposed rule, will be treated as a comment filed on that proposed rulemaking action, and will be addressed in issuance of any final rule. A proper request filed after the close of the comment period on any proposed rule may be considered to the same extent as any other late-filed comment or may be addressed through the procedures established in this guideline.

(7)(i) Upon receipt of a proper request, the responsible office must make a preliminary determination whether the request states a claim. A request for correction will be preliminarily determined to state a claim if it reasonably demonstrates, on the strength of the assertions made in the request alone, that the information disseminated was based on a misapplication or non-application of the operating unit's applicable published information quality standards.

(ii) A determination that a request does not state a claim will be communicated to the requester as soon as is administratively possible. There is no appeal from a decision that a request does not state a claim.

(8)(i) If a request is preliminarily determined to state a claim, the responsible office will objectively investigate and analyze, in a manner consistent with established internal procedures, whether the information disseminated is in compliance with the operating unit's published information quality standards. The appropriate official will make an initial decision, based on the request and any internal investigation and analysis, whether the information should be corrected because it does not comply with the operating unit's published information quality standards (granted request) or not corrected because it does comply with the operating unit's published information quality standards or, in the event that it does not comply with the operating unit's published information quality guidelines, the results would have been substantially or statistically the same (initial denial). There will be no opportunity for an in-person hearing.

(ii) The appropriate official must communicate his/her initial decision to the requester within the time frame established by the operating unit's internal guidelines. The initial decision must contain the name and title of the person communicating the decision, and a notice that the requester may appeal an initial denial to the head of the operating unit (with the name, title, and address of that official) within 30 calendar days of the date of the initial denial. An initial denial will become a final decision if no appeal is filed within 30 days.

(iii) The appropriate official may determine to grant the request and not correct the disseminated information if to correct the information would require a commitment of resources unavailable to that official. The appropriate official will communicate such a determination to the requester and will consider, in consultation with the head of the operating unit, including a request for sufficient funds to undertake the correction in the next budget cycle.

(f) Appeals from initial denial.

(1) An appeal from an initial denial must be made within 30 calendar days of the date of the initial decision. Such appeal must be in writing and addressed to the head of the operating unit responsible for the program office that disseminated the information. At a minimum, an appeal of an initial denial must include:

(i) The requester's current home or business address, telephone number or electronic mail address (in order to ensure timely communication);

(ii) A copy of the original request and any correspondence regarding the initial denial; and

(iii) A statement of the reasons why the requester believes the initial denial was in error. In describing why the requester believes the initial denial was in error, the requester must provide detailed reasons why:

(A) The failure to follow its information quality standards led the office that disseminated the information to disseminate information that is not within an acceptable degree of imprecision or error;

(B) The disseminated information is not within an acceptable degree of imprecision or error regardless of whether the office that disseminated the information correctly followed its information quality standards; or

(C) The standards covering the dissemination of the information at issue were so flawed that, even if they had been followed, they would lead to the dissemination of incorrect information.

(2) The head of the operating unit will decide whether the information should be corrected based on all the information presented in the appeal and the evidence collected by the operating unit pertaining to that appeal. There will be no opportunity for an in-person hearing. The head of the operating unit must communicate his/her decision to the requester within the time frame established by the operating unit's internal procedures, but in no case longer than 60 calendar days after receipt of the appeal. The decision of the head of the operating unit will constitute a final decision by the Department.

(3) The head of the operating unit may determine that an appeal meets one of the criteria in paragraph (f)(1)(iii) and not correct the disseminated information or the Department's guidelines if to do so would require a commitment of resources unavailable to that official. The head of the operating unit will communicate such a determination to the requester and will consider including a request for sufficient funds to undertake the correction in the next budget cycle.

Department of Commerce and Operating Unit Web Sites

http://www.doc.gov/

http://www2.osec.doc.gov/public.nsf/docs/os

http://www.bxa.doc.gov/

http://www.esa.doc.gov/

http://www.bea.doc.gov/

http://www.census.gov/

http://www.doc.gov/eda/

http://www.ita.doc.gov/

http://www.mbda.gov/

http://www.noaa.gov/

http://www.ntia.doc.gov/

http://www.oig.doc.gov/

http://www.ta.doc.gov/

http://www.nist.gov/

https://www.ntis.gov/

Dated: April 29, 2002.
Thomas N. Pyke, Jr.,
Chief Information Officer.

[FR Doc. 02-10991 Filed 4-30-02; 12:40 pm]

BILLING CODE 3510-CW-P